DEPARTMENT OF JUSTICE

[OMB Number 1125-0013]

Agency Information Collection Activities; Proposed Collection; Request by Organization for Accreditation or Renewal of Accreditation of Non-Attorney Representative (Form EOIR-31A)

AGENCY: Executive Office for Immigration Review, Department of Justice.

ACTION: Notice.

SUMMARY: The Department of Justice (DOJ), Executive Office for Immigration Review (EOIR), will be submitting the following information collection request to the Office of Management and Budget (OMB) for review and approval in accordance with the Paperwork Reduction Act of 1995. The proposed information collection request was previously published in the Federal Register on Tuesday, October 20, 2020, allowing a 30-day comment period.

The proposed information collection request is currently under review for additional edits, and the agency will publish a new 30-day notice for public commenting in place of the previous publication.

FOR FURTHER INFORMATION CONTACT: If additional information is required, please contact Lauren Alder Reid, Assistant Director, Office of Policy, Executive Office for Immigration Review, 5107 Leesburg Pike, Suite 2500, Falls Church, VA 22041, telephone: (703) 305-0289.

Dated: November 3, 2020.
Melody D. Braswell,
Department Clearance Officer for PRA, U.S. Department of Justice.

[FR Doc. 2020-24747 Filed 11-5-20; 8:45 am]

BILLING CODE 4410-30-P